DEPARTMENT OF COMMERCE

National Oceanic and Atmospheric Administration

Programmatic Environmental Impact Statement for the NMFS Saltonstall-Kennedy Research and Development Program

AGENCY: National Marine Fisheries Service (NMFS), National Oceanic and Atmospheric Administration (NOAA), Department of Commerce.

ACTION: Notice of availability; announcement of public meetings; request for written comments.

SUMMARY: NOAA announces the availability of its Draft Programmatic Environmental Impact Statement (PEIS) which analyzes the potential environmental impacts of the implementation of projects that foster the promotion, marketing, research, and development of U.S. Fisheries and their associated fishing sectors, as consistent with NOAA's Saltonstall-Kennedy Research and Development Program (S-K Program). The focus of this action is on activities and projects under the S-K Program, which interfaces with numerous programs within NOAA, and it is NOAA's intention that this PEIS may also cover those activities and projects implemented by other NOAA programs and offices that are consistent with the scope of the S-K Program. This notice of availability (NOA) of the Draft PEIS invites interested parties to provide comments on the proposed project, its potential to affect the human environment, and means for avoiding, minimizing, or mitigating those effects.

DATES: Written comments on this Draft PEIS must be received no later than June 6, 2022.

ADDRESSES: You may submit comments on this document, identified by NOAA-NMFS-2022-0045, by any of the following methods:

• Electronic Submission: Submit all electronic public comments via the Federal e-Rulemaking Portal. Go to https://www.regulations.gov and enter NOAA-NMFS-2022-0045 in the Search box. Click on the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Comments will also be accepted at public meetings during the Draft PEIS comment period. The webinar and telephone information for the public meetings is provided below in the Draft PEIS Process section.

FOR FURTHER INFORMATION CONTACT: Cliff Cosgrove, Saltonstall-Kennedy Program Manager, telephone: (301-427-8736); nmfs.sk.peis@noaa.gov; or visit the S-K Program website: https://www.fisheries.noaa.gov/content/saltonstall-kennedy-research-and-development-program.

SUPPLEMENTARY INFORMATION:

Project Scope

The purpose of this PEIS is to identify and evaluate the general impacts, issues and concerns related to the implementation of the types of projects that are consistent with the scope of the S-K Program. The S-K Program funds projects that address the needs of fishing communities, optimize economic benefits by building and maintaining sustainable fisheries (where the term “fisheries” includes commercial wild capture, recreational fishing, cultural and subsistence fishing, and marine aquaculture), and increase other opportunities to keep working waterfronts viable. The PEIS will be used to support site- and project-specific NEPA reviews, as necessary. The PEIS addresses all of the priorities, and their associated project types, that the S-K Program has funded since 2010, which cover the range of priorities and project types that fall under the S-K Program. The affected environment associated with the proposed action includes all marine, estuarine, and coastal habitats in the United States and territories. It also includes freshwater interior habitats that influence or affect rivers, streams, and creeks affecting marine or estuarine waters, or that support migratory fish populations. It may also include adjacent or continuous habitats in Canada or Mexico that support living coastal and marine resources under NOAA trusteeship.

To ensure consideration of input from interested parties in each region, NOAA will conduct three public meetings for the Draft PEIS. Each meeting will be focused on a region or combination of regions based on time zone proximity. More information about each meeting, including meeting dates and times, can be found in the Draft PEIS Process section below.

Background

In 1954, the Saltonstall-Kennedy Act (15 U.S.C. 713c-3) was passed to address the needs of U.S. fisheries and their related fishing sectors, and thereby established the S-K Program. The Saltonstall-Kennedy Act states that The Secretary shall make grants to assist persons in carrying out research and development projects addressed to any aspect of United States fisheries, including, but not limited to, harvesting, processing, marketing, and associated infrastructures.

The S-K Program provides funding to projects that benefit fishing communities through the promotion, marketing, research, and development of U.S. fisheries and their associated fishing sectors. Since its inception, grants have been provided to fishers, individuals, private businesses, fishing organizations, universities, states, research institutes, non-governmental organizations, and others.

The S-K Program is composed of a competitive grant program and a national program. Grants and cooperative agreements are provided under both programs and can occur in any of NMFS' five fisheries regions. The national program is designed to fund needed fishery industry projects that are not addressed through the competitive grants program. Funding for the S-K Program is determined through annual congressional appropriations. Historically, the S-K Program has had a diverse set of priorities, selecting between two and seven projects each year for funding. While the primary priority has been projects that meet the purpose of promotion, development, and marketing (PDM) of the U.S. fisheries and their associated fishing sectors, and NMFS anticipates that will continue to be the primary priority, priorities can change annually and additional priorities can be chosen.

For more information about the S-K Program, please use the link provided in the FOR FURTHER INFORMATION CONTACT section above.

Proposed Action, Purpose, and Need

The proposed Federal action is to fund projects that are consistent with the scope of the S-K Program. The purpose of the proposed action is threefold: (1) Address the needs of fishing communities, consistent with NOAA's mandate through the Saltonstall-Kennedy Act; (2) ensure that NOAA continues to meet the intent and requirements of the Saltonstall-Kennedy Act; and (3) assist NOAA in meeting its mission, “To understand and predict changes in climate, weather, oceans, and coasts, to share that knowledge and information with others, and to conserve and manage coastal and marine ecosystems and resources.” The Proposed Action is needed to implement the S-K Act and funding program to build and maintain sustainable fisheries, optimize economic benefits, and increase other opportunities to keep working waterfronts viable.

Types of projects funded by the S-K Program include, but are not limited to, (1) seafood promotion and marketing; (2) research and monitoring; (3) gear testing, bycatch reduction, and processing studies; (4) aquaculture; (5) socioeconomic research; and (6) outreach, education, and planning.

Alternatives

The Draft PEIS considers two alternatives: (1) A No Action Alternative, and (2) the proposed action, which NOAA is referring to as the Promotion, Marketing, Research and Development Alternative (Preferred Alternative). Under the No Action Alternative, the S-K Program would not fund projects that address the needs of fishing communities, optimize economic benefits by building and maintaining sustainable fisheries, and increase other opportunities to keep working waterfronts viable. The No Action Alternative serves as a baseline against which the impacts of the Preferred Alternative are compared. Implementation of the Preferred Alternative would allow for the funding of actions through federal financial assistance for all possible types of projects that meet the intent of the Saltonstall-Kennedy Act and the needs of U.S. fishing communities, consistent with the scope of the S-K Program. This alternative would provide the S-K Program with flexibility in choosing priorities each year while also considering the funding environment.

Draft PEIS Process

This notice initiates a public comment period for the Draft PEIS. Please review the information in this notice and additional information about the S-K Program, located on the NOAA S-K Program website (see the FOR FURTHER INFORMATION CONTACT section above). NOAA is particularly interested in receiving comments regarding biological, cultural, or ecological issues that the analysis should address. We also encourage comments that assist us in further delineating the proposed project, its potential to affect the human environment, means for avoiding, minimizing, or mitigating those effects, and other issues of public concern. To promote informed decision-making, we especially encourage commenters to submit any scientific data, studies, or research that you feel is relevant to the analysis.

To facilitate the public and agency involvement in the PEIS process, NOAA will hold three virtual public meetings during the 45-day Draft PEIS public comment period. The meetings will be virtual in format. The meetings will solicit input from the public and interested public agencies regarding the environmental impacts analyzed in the Draft PEIS. Three virtual public meetings (in webinar format only) will be held in each of three regions, as follows:

• Eastern and Gulf of Mexico Region (includes Atlantic States, Gulf of Mexico States, U.S. Virgin Islands, and Puerto Rico)—May 3, 2022

○ 12:00 p.m.-3:00 p.m. Central Daylight Time (CDT)

○ 1:00 p.m.- 4:00 p.m. Eastern Daylight Time (EDT)

• Western Region (includes Pacific States, Idaho, Alaska)—May 4, 2022

○ 10:00 a.m.-1:00 p.m. Pacific Daylight Time (PDT)

○ 9:00 a.m.-12:00 p.m. Alaska Daylight Time (AKDT)

• Western Pacific Region (includes Hawaii and Pacific Territories)—May 5, 2022

○ May 5, 2022, 1:00 p.m.-4:00 p.m. Hawaii-Aleutian Standard Time (HST)

○ May 6, 2022, 9:00 a.m.-12:00 p.m. Chamorro Standard Time (CHST)

Use the webinar links and dial-in information below to join each of the public scoping meetings:

• Eastern and Gulf of Mexico Region:

○ Webinar Link: https://kearnsandwest.webex.com/kearnsandwest/j.php?MTID=ma03971dfae8c6b633729b0999b548449

○ Access Code: 2498 400 6694

○ Dial-in Information: 1-844-621-3956 (US Toll Free) +1-415-655-0001 (US Toll)

• Western Region:

○ Webinar Link: https://kearnsandwest.webex.com/kearnsandwest/j.php?MTID=m27121be3b23b64dd86e686176c472cc2

○ Access Code: 2496 674 8493

○ Dial-in Information: 1-844-621-3956 (US Toll Free) +1-415-655-0001 (US Toll)

• Western Pacific Region:

○ Webinar Link: https://kearnsandwest.webex.com/kearnsandwest/j.php?MTID=m96385ca30659a7d4df14ea3d29379680

○ Access Code: 2487 332 4826

○ Dial-in Information: 1-844-621-3956 (US Toll Free) +1-415-655-0001 (US Toll)

Participants are encouraged to download the Webex Meetings app ahead of the meetings, using this link: https://www.webex.com/downloads.html. Then use the meeting link above to join a public meeting at the appropriate time. You may also participate by phone toll-free by calling 1-844-621-3956 (US Toll Free) or +1-415-655-0001 (US Toll), then entering the Access Code above when prompted.

After the comment period closes, NOAA will review and consider all comments received during the comment period and any other relevant information when developing the Final PEIS. Upon completion of the Final PEIS, a document announcing its availability will be published in the Federal Register.

Authority: This PEIS is being prepared under the authority of, and in accordance with, the requirements of NEPA, implementing regulations published by the Council on Environmental Quality (40 CFR 1500-1508), other applicable regulations, and NOAA's policies and procedures for compliance with those regulations.

Dated: April 18, 2022.
Daniel A. Namur,
Director of the NMFS Financial Assistance Division, National Marine Fisheries Service.

[FR Doc. 2022-08629 Filed 4-21-22; 8:45 am]

BILLING CODE 3510-22-P